DEPARTMENT OF THE INTERIOR

National Park Service

Termination of the Environmental Impact Statement on the Spruce Creek Access Proposal, Denali National Park and Preserve, Alaska

AGENCY: National Park Service, Interior.

ACTION: Notice.

SUMMARY: The National Park Service (NPS) is terminating an environmental impact statement (EIS) to evaluate an application for a right-of-way permit to a private inholding on Spruce Creek in the Kantishna Hills of Denali National Park and Preserve for the purpose of constructing and operating a remote lodge. The NPS released a draft EIS in July 1999 (published by NPS at 64 FR 41944, August 2, 1999, and by EPA at 64 FR 42942, August 5, 1999), and the public comment period ended October 6, 1999. The applicants requested in May 2000 that NPS not release the final EIS while they considered an NPS offer to purchase the property. The NPS purchased the land and all commercial use rights in February 2002. The former owners reserved rights to two one-acre parcels with cabins for their private, personal use and they requested NPS terminate the EIS.

The owners of the personal, non-commercial rights on the two one-acre parcels have requested access over the existing mining access trails and use of the existing Glen Creek airstrip pursuant to the Alaska National Interest Lands Conservation Act of 1980, Section 1110(b)—Access to Inholdings. In consultation with the NPS the applicants propose minor new road construction to avoid driving in the bed of Spruce Creek. The new access request would require much less construction and result in less adverse impact on park resources and values than the original access request to construct and operate a lodge. NPS is issuing an environmental assessment (EA) to evaluate the impacts of the new access request and alternatives. The EA will be made available to those who commented on the draft EIS and other interested parties.

FOR FURTHER INFORMATION CONTACT: Paul R. Anderson, Superintendent, Denali National Park and Preserve, P.O. Box 9, Denali Park, Alaska 99755. Telephone (907) 683-9581.

Marcia Blaszak,
Acting Regional Director, Alaska Region.

[FR Doc. 02-14016 Filed 6-5-02; 8:45 am]

BILLING CODE 4310-70-P